DEPARTMENT OF COMMERCE

International Trade Administration

[A-533-810]

Stainless Steel Bar From India; Notice of Extension of Time Limit for Preliminary Results of Antidumping Administrative Review

AGENCY: Import Administration, International Trade Administration, Department of Commerce.

ACTION: Notice of extension of time limit for preliminary results of administrative review.

SUMMARY: The Department of Commerce is extending the time limit for the preliminary results of the fifth administrative review of the antidumping duty order on stainless steel bar from India. The period of review is February 1, 1999, through January 31, 2000. This extension is made pursuant to section 751(a)(3)(A) of the Tariff Act of 1930, as amended by the Uruguay Round Agreements Act.

EFFECTIVE DATE: October 12, 2000.

FOR FURTHER INFORMATION CONTACT: Ryan Langan or Blanche Ziv, Office 1, Import Administration, International Trade Administration, U.S. Department of Commerce, 14th Street and Constitution Avenue, N.W., Washington D.C. 20230; telephone (202) 482-1279 or 482-4207, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce's (the Department's) regulations refer to 19 CFR Part 351, April 1999.

Extension of Time Limit for Preliminary Results

Due to the delayed initiation of the Department's cost of production investigation and the additional time required to collect and analyze cost of production data, it is not practicable to complete this review within the time limit currently mandated by section 751 (a)(3)(A) (i.e., October 31, 2000). Therefore, in accordance with section 751(a)(3)(A) of the Act and 19 CFR 351.213(h)(2), the Department is extending the time limit for completion of the preliminary results by 90 days (i.e., until January 29, 2001).

Dated: October 5, 2000.
Louis Apple,
Acting Deputy Assistant Secretary for AD/CVD Enforcement.

[FR Doc. 00-26244 Filed 10-11-00; 8:45 am]

BILLING CODE 3510-DS-P